DEPARTMENT OF ENERGY

Federal Energy Regulatory Commission

[Docket No. RP02-218-000]

East Tennessee Natural Gas Company; Notice of Annual Cashout Report

April 3, 2002.

Take notice that on March 29, 2002, East Tennessee Natural Gas Company (East Tennessee) tendered for filing its annual cashout report for the November 2000 through October 2001 period in accordance with Rate Schedules LMS-MA and LMS-PA.

East Tennessee states that report reflects a net loss from cashouts of $2,361,019 for the November 2000 through October 2001 reporting period. In accordance with its Rate Schedules LMS-MA and LMS-PA, East Tennessee will roll this loss forward into its next annual cashout report.

East Tennessee states that copies of the filing were mailed to all affected customers of East Tennessee and interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed on or before April 10, 2002. Protests will be considered by the Commission in determining the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-8512 Filed 4-8-02; 8:45 am]

BILLING CODE 6717-01-P